DEPARTMENT OF TRANSPORTATION

Federal Transit Administration

[Docket No. FTA-2022-0038]

Notice of Availability: Proposed Updates to Joint Development Circular

AGENCY: Federal Transit Administration (FTA), Department of Transportation (DOT).

ACTION: Notice of availability: proposed updates to joint development Circular.

SUMMARY: The Federal Transit Administration (FTA) is seeking public comment on proposed changes to Circular 7050.1B regarding joint development projects using FTA funds or FTA-funded property. The purpose of these proposed changes is to incorporate changes made by the Bipartisan Infrastructure Law (BIL), implemented as the Infrastructure Investment and Jobs Act that amended the definition of a “Capital Project.”

DATES: Comments must be received on or before March 31, 2023. Late filed comments will be considered to the extent practicable.

ADDRESSES: Please submit your comments by any of the following methods, identifying your submission by DOT Docket Number FTA-2022-0038. All electronic submissions must be made to the U.S. Government electronic site at https://www.regulations.gov/.

Federal e-Rulemaking Portal: Go to https://www.regulations.gov/ and follow the online instructions for submitting comments.

Mail: Docket Management Facility: U.S. Department of Transportation, 1200 New Jersey Avenue SE, West Building, Ground Floor, Room W12-140, Washington, DC 20590-0001.

Hand Delivery or Courier: West Building Ground Floor, Room W12-140, 1200 New Jersey Avenue SE, between 9 a.m. and 5 p.m. Eastern time, Monday through Friday, except Federal holidays.

Fax: 202-493-2251.

Instructions: You must include the agency name (Federal Transit Administration) and Docket number (FTA-2022-0038) for this notice at the beginning of each submission of your comments. Submit two copies of your comments if you submit them by mail. For confirmation that FTA received your comments, include a self-addressed stamped postcard. All comments received will be posted without change to https://www.regulations.gov/ including any personal information provided and will be available to internet users. You may review DOT's complete Privacy Act Statement published in the Federal Register on April 11, 2000 (65 FR 19477).

Docket: For access to the docket to read background documents and comments received, go to https://www.regulations.gov at any time or to the U.S. Department of Transportation, 1200 New Jersey Avenue SE, Docket Operations, M-30, West Building Ground Floor, Room W12-140, Washington, DC 20590 between 9:00 a.m. and 5:00 p.m. Eastern Time, Monday through Friday, except Federal holidays.

FOR FURTHER INFORMATION CONTACT: For policy guidance questions, contact Margaret Schilling, Office of Budget and Policy, Federal Transit Administration, 1200 New Jersey Ave. SE, Room E52-315, Washington, DC 20590, phone: (202) 366-1487, or email: margaret.schilling@dot.gov.

SUPPLEMENTARY INFORMATION: This notice provides a summary of the proposed changes to Circular 7050.1B. The Circular itself is not included in this notice; instead, a redline version of the updated Circular showing the proposed changes is posted in Docket FTA-2022-0038.

FTA is proposing to update Circular 7050.1B, to add “technology to fuel a zero-emission vehicle” as an eligible joint development improvement under FTA programs. Recipients of assistance for these improvements must collect fees for the use of the charging facilities unless exceptions apply.

Sec. 30001 of the BIL amended section 5302 of title 49, United States Code, by adding section 5302(4)(G)(vi)(XV); revising section 5302(4)(G)(iv); and reordering Sections 5302(4)(G)(i-vi).¹ Section 5302(4)(G)(vi)(XV) added “technology to fuel a zero-emission vehicle” as an eligible joint development improvement under the definition of a “Capital Project.”

¹ Previously section 5302(3)(G).

Section 5302(4)(G)(iv) provides that “if equipment to fuel privately owned zero-emission passenger vehicles is installed, the recipient of assistance shall collect fees from users of the equipment in order to recover the costs of construction, maintenance, and operation of the equipment.” FTA is proposing to add this language to the Circular on pages III-7 and VI-4—VI-5, with the following clarifying language: “The recipient of assistance shall be required to collect fees from usage only if the equipment is used primarily by privately-owned passenger vehicles. Fee collection may also be waived if the recipient demonstrates in the joint development application that the cost to install a fee collection system is more than the recipient anticipates collecting from users of the equipment. The method of fee collection in all circumstances is at the discretion of the site host and/or recipient of FTA assistance.”

This update of Circular 7050.1B is a direct implementation of a statutory change. FTA recommends that interested stakeholders review the proposed changes to the Circular and provide comment on any impacts these proposed changes may have on future joint development projects.

After a review and consideration of the comments provided on these changes, FTA will publish the updated Circular on its website. No other changes to the Circular are being proposed at this time.

Nuria I. Fernandez,
Administrator.

[FR Doc. 2023-01830 Filed 1-27-23; 8:45 am]

BILLING CODE 4910-57-P